DEPARTMENT OF STATE

[Public Notice 6464]

Meeting of the Expert Panel on Prevention of Mother-to-Child Transmission of HIV

The U.S. President's Emergency Plan for AIDS Relief (PEPFAR) Expert Panel on Prevention of Mother-to-Child Transmission of HIV will meet on January 9, 2009 at 9 a.m. in the Shriver B and C Conference Rooms at Peace Corps Headquarters located at 1111 20th Street NW., Washington, DC 20526. The meeting will last until approximately 5 p.m. and is open to the public.

The meeting will be hosted by the Office of the United States Global AIDS Coordinator, Ambassador Mark Dybul, who leads implementation of the President's Emergency Plan for AIDS Relief (PEPFAR).

The Expert Panel serves the U.S. Government by providing an objective review of activities to prevent mother-to-child transmission of HIV. It will provide a report with recommendations to the U.S. Global AIDS Coordinator and the appropriate congressional committees for scale-up of prevention of mother-to-child transmission services. Topics for the January 9th meeting are the Global Status of PMTCT Program Implementation, Update on the Science of PMTCT, PEPFAR PMTCT Programs, Overcoming Barriers, and Collaboration with International and Multilateral Groups.

The public may attend this meeting as seating capacity allows. Admittance to the Peace Corps building will be by means of a pre-arranged clearance list. In order to be placed on the list, please provide your name, title, company, or other affiliation if appropriate, to the Office of the U.S. Global AIDS Coordinator email (BallardEL@state.gov), or telephone (202) 663-2708 by January 7.

For further information about the meeting, please contact Rebecca Hooper, Director of Management and Budget, Office of the Global AIDS Coordinator at (202) 663-2339 or HooperRM@state.gov.

Dated: November 21, 2008.
Mark Dybul,
Coordinator, Office of the U.S. Global AIDS Coordinator, Department of State.

[FR Doc. E8-30568 Filed 12-22-08; 8:45 am]

BILLING CODE 4710-10-P